DEPARTMENT OF AGRICULTURE

Submission for OMB Review; Comment Request

December 20, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by January 24, 2022. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Meat and Poultry Inspection Readiness Grant (MPIRG).

OMB Control Number: 0581-0324.

Summary of Collection: The information collection requirements in this request are needed for the U.S. Department of Agriculture (USDA), Agricultural Marketing Service (AMS) to administer a new competitive grant program, entitled the Meat and Poultry Interstate Shipment and Inspection Readiness Program (MPIRG), under its Transportation and Marketing Program's Grants Division and in accordance with the Uniform Administrative Requirements, Cost Principles, and Audit Requirements for Federal Awards (Super Circular) (2 CFR part 200).

MPIRG is authorized and funded by the Consolidated Appropriations Act, 2021 in response to the ongoing COVID-19 pandemic and supply chain risks in U.S. meat and poultry processing systems. The MPIRG supports meat and poultry slaughter and processing facilities in making facility improvements and carrying out other planning activities necessary to attain Federal inspection and allow for interstate shipment.

Need and Use of the Information: The information collected is needed to certify that grant participants are complying with applicable program regulations, and the data collected is the minimum information necessary to effectively carry out the program requirements. The information collection requirements in this request are essential to carry out the intent of section 764 of the CAA, to provide the respondents the type of service they request, and for AMS to administer this program.

Description of Respondents: Business or other for-profit; Farms.

Number of Respondents: 2,798.

Frequency of Responses: Recordkeeping; Reporting.

Total Burden Hours: 12,005.

Agricultural Marketing Service

Title: AMS Research Cooperative Agreements Generic Clearance.

OMB Control Number: 0581-New.

Summary of Collection: Under the Agricultural Marketing Act of 1946, as amended (7 U.S.C. 1621 et seq.), AMS is responsible for conducting research to enhance market access for small and medium sized farmers. The role of the Marketing Services Division (MSD) within AMS is to research marketing and distribution of U.S. agricultural products. The division identifies marketing challenges and opportunities, researches and provides analysis to help business enterprises, local communities, governments, and other stakeholders take advantage of those opportunities, and also develops, evaluates, and disseminates strategies including methods to diversify and expand direct-marketing farming and producer operations. MSD works to improve market access for producers and develop new markets through three main roles as a researcher, a convener, and a technical assistance provider.

In AMS' vision, local food producers, markets, and communities have access to ideas, innovations, and research in order to grow and sustain productive businesses and support community development. Such information ensures that opportunities for U.S. food producers are readily available and communities are equipped to successfully grow and sell regionally produced foods, while also supporting increased access to locally produced foods.

Need and Use of the Information: This generic clearance will allow AMS to respond quickly to emerging issues and data collection needs. The surveys will cover topics such as: Feasibility studies, challenges and opportunities facing local and regional food systems, market access, community development, local, regional and State ordinances, development and expansion of marketing opportunities, food safety, and food access, as well as adjustments to market disruptions (such as the current pandemic restrictions) and logistical impediments.

Description of Respondents: Business or other for-profit; Farms.

Number of Respondents: 30,000.

Frequency of Responses: Reporting: On occasion.

Total Burden Hours: 15,000.

Levi S. Harrell,
Departmental Information Collection Clearance Officer.

[FR Doc. 2021-27895 Filed 12-22-21; 8:45 am]

BILLING CODE 3410-02-P